INTERNATIONAL TRADE COMMISSION

[USITC SE-14-029]

Government in the Sunshine Act Meeting Notice

AGENCY HOLDING THE MEETING: United States International Trade Commission

TIME AND DATE: August 27, 2014 at 11:00 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. Nos. 731-TA-1233, 1234, and 1236 (Final) (Grain-Oriented Electrical Steel from Germany, Japan, and Poland). The Commission is currently scheduled to complete and file its determinations and views of the Commission on September 9, 2014.

5. Outstanding action jackets: none.

In accordance with Commission policy, subject matter listed above, not disposed of at the scheduled meeting, may be carried over to the agenda of the following meeting.

By order of the Commission.
Issued: August 12, 2014.
William R. Bishop,
Supervisory Hearings and Information Officer.

[FR Doc. 2014-19486 Filed 8-13-14; 11:15 am]

BILLING CODE 7020-02-P